DEPARTMENT OF JUSTICE

Notice of Lodging of Proposed Consent Decree Under the Clean Water Act

On February 21, 2019, the Department of Justice lodged a proposed Partial Consent Decree (“Consent Decree”) with the United States District Court for the District of Massachusetts in the lawsuit entitled United States, et al. v. City of Holyoke, Massachusetts, Civil Action No. 19-cv-10332. In a Complaint, the United States, on behalf of the U.S. Environmental Protection Agency (“EPA”), alleges that the City of Holyoke, Massachusetts, violated the Clean Water Act (CWA), 33 U.S.C. 1311 and 1319, by discharging pollutants from its wastewater collection system without authorization and not in compliance with its National Pollutant Discharge Elimination System permit. The Commonwealth of Massachusetts is a Plaintiff-Intervenor in the case. The proposed Partial Consent Decree requires that Holyoke submit a long-term, combined sewer overflow plan by December 31, 2019, with stipulated penalties attached for late submission. Civil penalties are deferred. The Consent Decree is partial in nature because, once the City develops its plan, the parties intend to negotiate what further steps the City must take regarding the discharges.

The publication of this notice opens a period for public comment on the proposed Partial Consent Decree. Comments should be addressed to the Assistant Attorney General, Environment and Natural Resources Division, and should refer to United States, et al. v. City of Holyoke, Massachusetts, D.J. Ref. No. 90-5-1-1-11703. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Partial Consent Decree may be examined and downloaded at this Justice Department website: https://www.justice.gov/enrd/consent-decrees. We will provide a paper copy of the proposed Partial Consent Decree upon written request and payment of reproduction costs. Please mail your request and payment to: Consent Decree Library, U.S. DOJ—ENRD, P.O. Box 7611, Washington, DC 20044-7611.

Please enclose a check or money order for $11.50 (25 cents per page reproduction cost), payable to the United States Treasury.

Robert Maher,
Assistant Section Chief, Environmental Enforcement Section, Environment & Natural Resources Division.

[FR Doc. 2019-03473 Filed 2-27-19; 8:45 am]

BILLING CODE 4410-15-P